FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 20, 2008.

A. Federal Reserve Bank of Kansas City (Todd Offenbacker, Assistant Vice President) 1 Memorial Drive, Kansas City, Missouri 64198-0001:

1. Charles I. Moyer Revocable Trust, Charlotte L. Moyer Family Trust, and Charlotte L. Moyer Marital Trust, Charles I. Moyer, trustee, all of Phillipsburg, Kansas; C. Bryant Moyer, Topeka, Kansas; Clinton I. Moyer, Borger, Texas, all as members of the Moyer Family Group; and Jaret Moyer, Emporia, Kansas, individually and as a member of the Moyer Family Group; to acquire control of Woodbine Agency, Inc., and thereby indirectly acquire control of The Citizens State Bank and Trust Company, both in Woodbine, Kansas.

Board of Governors of the Federal Reserve System, July 31, 2008.
Robert deV. Frierson,
Deputy Secretary of the Board.

[FR Doc. E8-18049 Filed 8-5-08; 8:45 am]

BILLING CODE 6210-01-S